DEPARTMENT OF DEFENSE

Office of the Secretary

[Docket ID DoD-2013-OS-0045]

Privacy Act of 1974; System of Records

AGENCY: Office of the Secretary of Defense, DoD.

ACTION: Notice to add a new system of records.

SUMMARY: The Office of the Secretary of Defense proposes to add a new system of records in its inventory of record systems subject to the Privacy Act of 1974 (5 U.S.C. 552a), as amended.

DATES: This proposed action will be effective on April 8, 2013 unless comments are received which result in a contrary determination. Comments will be accepted on or before April 8, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on March 5, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: March 5, 2013.
Aaron Siegel,
Alternate OSD Federal Register Liaison Officer, Department of Defense.

DA&M 02

System name:

Director of Administration and Management (DA&M) Mentoring Program.

System location:

Triple Creek Associates, Inc., 7730 E. Belleview Ave., Suite 200A, Greenwood Village, CO 80111-6617.

Categories of individuals covered by the system:

Participating DA&M, Washington Headquarters Service (WHS), and Pentagon Force Protection Agency civilian employees and assigned military personnel.

Categories of records in the system:

Name, employment information (work email, work phone number, work location, organization, department, work experience, years of experience in DA&M, total years of work experience, job level, job competencies, and competency level), education (e.g., degrees, training, coursework), job title, pay plan, job series, job grade, feedback on mentoring experience, discussion board posts, responding to polls.

Authority for maintenance of the system:

10 U.S.C. 113, Secretary of Defense; DoD Directive (DoDD) 5105.53, Director of Administration and Management; DoDD 5110.4, Washington Headquarters Services; and DoDD 5105.68, Pentagon Force Protection Agency.

Purpose(s):

To provide participants with an automated mentoring system to match learners with potential advisors based on learner need and advisor capabilities and experience. The system will facilitate the tracking and management of these mentoring relationships and will also be used as a management tool for statistical analysis, tracking, reporting, evaluating program effectiveness and conducting research.

Routine use of records maintained in the system, including categories of users and the purposes of such uses:

In addition to those disclosures generally permitted under 5 U.S.C. 552a(b) of the Privacy Act of 1974, as amended, these records contained herein may specifically be disclosed outside the DoD as a routine use pursuant to 5 U.S.C. 552a(b)(3) as follows:

The DoD Blanket Routine Uses published at the beginning of the Office of the Secretary of Defense (OSD) compilation of systems of record notices may apply.

Policies and practices for storing, retrieving, accessing, retaining, and disposing of records in the system:

Storage:

Electronic storage media.

Retrievability:

By participant's name.

Safeguards:

The system is a web-based system, and it is maintained by a DoD contractor on a contractor owned computer server. The data is protected by dedicated firewalls and web servers that are physically separated from other contractor database servers. The database resides behind a firewall, is not publically accessible, and a separate, dedicated database is used. The contractor employs constant proactive monitoring, including port monitoring to identify unauthorized attempts to upload or change information or otherwise cause damage to the system. Backup storage devices, drives, and tapes are encrypted, and the server is located in a secured facility with limited physical access. In accordance with the contract, the contractor is not to remove any of the data from the contracting site, and the contractor must follow the DoD safeguarding policies, and regulations as defined in the contract. The contractor is to ensure confidentiality of the data.

All web connections to the system use a secure connection via Secure Socket Layer/Transport Layer Security. Data transfers require encryption.

Access to PII is role-based and limited to those individuals with an identified need to access the records in the conduct of their official duties. A login consisting of either the participant's work email address and password or Common Access Card and PIN prevents unauthorized access.

Retention and disposal:

Destroy three (3) years after participant's withdrawal, termination, transfer, or inactivity.

System manager(s) and address:

DA&M Mentoring Program Manager, 4800 Mark Center Drive, Suite 03D08, Alexandria, VA 22350-3200.

Notification procedure:

Individuals seeking to determine whether information about themselves is contained in this record system should address written inquiries to the DA&M Mentoring Program Manager, 4800 Mark Center Drive, Suite 03D08, Alexandria, VA 22350-3200.

Individuals should furnish full name and organization.

Record access procedures:

Individuals seeking access to information about themselves contained in this record system should address written inquiries to the Office of the Secretary of Defense/Joint Staff Freedom of Information Act Requester Service Center, 4800 Mark Center Drive, Alexandria, VA 22350-3100.

Written requests must be signed and contain full name, organization and the name and number of this system of records notice.

Contesting record procedures:

The OSD rules for accessing records, for contesting contents and appealing initial agency determinations are published in OSD Administrative Instruction 81; 32 CFR part 311; or may be obtained from the program manager.

Record source categories:

The individual.

Exemptions claimed for the system:

None.

[FR Doc. 2013-05439 Filed 3-7-13; 8:45 am]

BILLING CODE 5001-06-P